THE COMMITTEE FOR PURCHASE FROM PEOPLE WHO ARE BLIND OR SEVERELY DISABLED

Procurement List; Proposed Deletions

AGENCY: The Committee for Purchase From People Who Are Blind or Severely Disabled.

ACTION: Proposed Deletions from the Procurement List.

SUMMARY: The Committee for Purchase From People Who Are Blind or Severely Disabled is proposing to delete products from the Procurement List that were furnished by nonprofit agencies employing persons who are blind or have other severe disabilities.

Comments Must Be Received on Or Before: 2/9/2015.

ADDRESSES: The Committee for Purchase From People Who Are Blind or Severely Disabled, 1401 S. Clark Street, Suite 10800, Arlington, Virginia 22202-4149.

For Further Information Or to Submit Comments Contact: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products:

NSN: 7510-01-455-0020—Steno Pad Holder, Vinyl

NPA: The Arkansas Lighthouse for the Blind, Little Rock, AR

Contracting Activity: General Services Administration, New York, NY

NSN: 7520-01-454-7996—Pen, Ergonomic, Ballpoint, “The Constitution”

NSN: 7520-01-454-7997—Pen, “Patriot” Ergonomic

NSN: 7520-01-454-7998—Pen, Ball Point, Liberty Writer, Retractable, Cushion Grip, Black Ink, Fine Point

NSN: 7520-01-454-7999—Pen, Ball Point, Liberty Writer, Retractable, Cushion Grip, Black Ink, Medium Point

NSN: 7520-01-439-3393—Pen & Pencil Set, “The Liberty”

NSN: 7520-01-439-3407—Pen, Ball Point, Retractable, Stealth Writer, Woodland Green Camouflage, Black Ink, Medium Point

NSN: 7520-01-439-3408—Pen, Ball Point, Retractable, Stealth Writer, Desert Tan Camouflage, Black Ink, Medium Point

NPA: Industries for the Blind, Inc., West Allis, WI

Contracting Activity: General Services Administration, New York, NY

Clock, Atomic, Standard, Thermometer

NSN: 6645-01-491-9819

NSN: 6645-01-491-9826

Clock, Wall

NSN: 6645-01-421-6899

NSN: 6645-01-456-6029—Customized

Slimline Workstation Clocks

NSN: 6645-01-516-9623—6″ Federal Logo—Brown

NSN: 6645-01-516-9624—6″ Black Case

NSN: 6645-01-516-9625—6″ Brown Case

NSN: 6645-01-516-9628—6″ Federal Logo—Black

NPA: The Chicago Lighthouse for People Who Are Blind or Visually Impaired, Chicago, IL

Contracting Activity: General Services Administration, New York, NY

NSN: 7510-01-544-0840—Use in Canon printers BJC3000/6000/6200/6500/S400/

NSN: 7510-01-555-6172—Inkjet printer cartridge/compatible with Epson Part No. T029201. Tri color

NSN: 7510-01-555-6174—Cartridge, Inkjet, Compatible with Canon BCI-15BK, Black, 185 Page Yield

NSN: 7510-01-555-6175—Inkjet printer cartridge

NSN: 7510-01-555-6176—Inkjet printer cartridge

NSN: 7510-01-555-6177—Inkjet printer cartridge

NPA: Alabama Industries for the Blind, Talladega, AL

Contracting Activity: General Services Administration, New York, NY

NSN: 7520-01-424-4858—Marker, Tube Type, Broad Tip

NPA: Dallas Lighthouse for the Blind, Inc., Dallas, TX

Contracting Activity: General Services Administration, New York, NY

NSN: 7920-01-452-2028—Handle, Mop, Lockjaw, Wood

NPA: Alphapointe, Kansas City, MO

Contracting Activity: General Services Administration, Fort Worth, TX

Bag, Plastic

NSN: 8105-00-NIB-0011

NSN: 8105-00-NIB-0012

NSN: 8105-00-NIB-0013

NSN: 8105-00-NIB-0014

NSN: 8105-00-NIB-0015

NSN: 8105-00-NIB-0016

NSN: 8105-00-NIB-0017

NSN: 8105-00-NIB-0018

NSN: 8105-00-NIB-0019

NSN: 8105-00-NIB-0020

NPA: Unknown

Contracting Activity: U.S. Fleet Forces Command, Norfolk, VA

Flexible Erasable Wall Planners

NSN: 7510-01-600-8032—Dated 2014 18-month Paper Wall Planner, 24″ x 37”

NSN: 7510-01-600-8042—Dated 2014 12-Month 2-Sided Laminated Wall Planner, 24″ x 37”

NSN: 7520-01-585-0982—Planner, Flexible, Erasable, Undated, Vacation

NPA: The Chicago Lighthouse for People Who Are Blind or Visually Impaired, Chicago, IL

Contracting Activity: General Services Administration, FSS Household and Industrial Furniture, Arlington, VA

NSN: 7530-01-600-7567—Daily Desk Planner, Dated 2014, Wire bound, Non-refillable, Black Cover

NSN: 7510-01-600-7570—Wall Calendar, Dated 2014, Wire Bound w/Hanger, 12″ x 17″

NSN: 7530-01-600-7598—Monthly Desk Planner, Dated 2014, Wire Bound, Non-refillable, Black cover

NSN: 7530-01-600-7609—Weekly Desk Planner, Dated 2014, Wire Bound, Non-refillable, Black cover

NSN: 7510-01-600-7623—Monthly Wall Calendar, Dated 2014, Jan-Dec, 8½″ x 11″

NSN: 7530-01-600-7624—Weekly Planner Book, Dated 2014, 5″ x 8″, Digital Camouflage

NSN: 7510-01-600-7636—Wall Calendar, Dated 2014, Wire Bound w/hanger, 15.5″ × 22″

NPA: The Chicago Lighthouse for People Who Are Blind or Visually Impaired, Chicago, IL

Contracting Activity: General Services Administration, New York, NY

NSN: 7530-00-285-3072—Paper, Mimeograph and Duplicating

NSN: 7530-00-285-3073—Paper, Mimeograph and Duplicating

NSN: 7530-00-285-5836—Paper, Writing

NSN: 7530-00-616-7284—Paper, Bond & Writing

NPA: Louisiana Association for the Blind, Shreveport, LA

Contracting Activity: General Services Administration, New York, NY

Patricia Briscoe,
Deputy Director, Business Operations (Pricing and Information Management).

[FR Doc. 2015-00262 Filed 1-9-15; 8:45 am]

BILLING CODE 6353-01-P